DEPARTMENT OF THE INTERIOR

National Park System Advisory Board Re-establishment

AGENCY: National Park Service, Interior.

ACTION: Notice of Re-establishment of the National Park System Advisory Board.

SUMMARY: The Secretary of the Interior intends to re-establish the National Park System Advisory Board. This action is necessary and in the public interest in connection with the performance of statutory duties imposed upon the Department of the Interior and the National Park Service.

FOR FURTHER INFORMATION CONTACT: Ms. Shirley S. Smith, 202-208-7160.

SUPPLEMENTARY INFORMATION: The Board was established initially by section 3 of the Act of August 21, 1935 (49 Stat. 667; 16 U.S.C. 463), and has been in existence almost continuously since then. Pursuant to Public Law 111-8, the legislative authorization will expire January 1, 2010. However, due to the importance of the issues on which the Board advises, in the event the Board is not extended by legislation prior to that termination date, the Secretary of the Interior intends to exercise the authority contained in Section 3 of Public Law 91-383 (16 U.S.C. 1a-2(c)) to re-establish and continue the Board as a discretionary committee from January 1, 2010, until such time as it may be legislatively reauthorized. If the Board is renewed legislatively after January 1, 2010, the discretionary Board will revert to a legislative Board.

The advice and recommendations provided by the Board and its subcommittees fulfill an important need within the Department of the Interior and the National Park Service, and it is necessary to re-establish the Board to ensure its work is not disrupted. The Board's twelve members will be balanced to represent a cross-section of disciplines and expertise relevant to the National Park Service mission. The re-establishment of the Board comports with the requirements of the Federal Advisory Committee Act, as amended (5 U.S.C., Appendix), and follows consultation with the General Services Administration.

Certification: I hereby certify that the re-establishment of the National Park System Advisory Board is necessary and in the public interest in connection with the performance of duties imposed on the Department of the Interior by the Act of August 25, 1916, 16 U.S.C. 1 et seq., and other statutes relating to the administration of the National Park System.

Ken Salazar,
Secretary of the Interior.

[FR Doc. E9-31051 Filed 12-29-09; 8:45 am]

BILLING CODE P